DEPARTMENT OF COMMERCE

National Institute of Standards and Technology

Judges Panel of the Malcolm Baldrige National Quality Award

AGENCY: National Institute of Standards and Technology, U.S. Department of Commerce.

ACTION: Notice of closed meeting.

SUMMARY: The Judges Panel of the Malcolm Baldrige National Quality Award (Judges Panel) reports the results of the Malcolm Baldrige National Quality Award (Award) activities to the Director of the National Institute of Standards and Technology (NIST) each year, along with its recommendations for the improvement of the Award process. The purpose of this meeting is to discuss the 2025 Baldrige Award process, including the identification of which award applicant organizations should be advanced to the site visit phase. The meeting is closed to the public in order to protect the proprietary data to be examined and discussed.

DATES: Pursuant to the Federal Advisory Committee Act, as amended (FACA), 5 U.S.C. 1001 et seq., notice is hereby given that the Judges Panel will meet on Tuesday, June 24, 2025, from 12:00 p.m. to 6:00 p.m. Eastern Time (all times are Eastern Time).

ADDRESSES: The closed meeting will only be accessible via teleconference.

FOR FURTHER INFORMATION CONTACT: Robert Fangmeyer, Director, Baldrige Performance Excellence Program, phone: 301-975-2361, email robert.fangmeyer@nist.gov.

SUPPLEMENTARY INFORMATION:

Background

The Judges Panel, composed of approximately nine members preeminent in the field of organizational performance excellence and appointed by the Secretary of Commerce, makes an annual report on the results of Award activities to the Director of the National Institute of Standards and Technology (NIST), along with its recommendations for improvement of the Award process.

Agenda

The meeting will include a discussion of the 2025 Baldrige Award process, including the identification of which award applicant organizations should be advanced to the site visit phase. The meeting will include discussions of lessons learned from the 2024 judging process and on the 2024 Award process.

The agenda may change to accommodate the Judges Panel's business. The final agenda will be posted on the NIST Baldrige Performance Excellence website at https://www.nist.gov/baldrige/how-baldrige-works/baldrige-community/judges-panel.

Open Session Attendance

There will be no open session during this meeting.

Special Accommodations

There will be no public participation during this meeting; therefore, public accommodations will not be necessary.

Public Participation

There will be no public participation during this meeting.

Closure Determination

The Deputy Assistant Secretary for Administration, performing the non-exclusive functions and duties of the Deputy Secretary of Commerce, with the concurrence of the delegate of the General Counsel, formally determined, pursuant to Section 10(d) of the Federal Advisory Committee Act, as amended by Section 5(c) of the Government in the Sunshine Act, Public Law 94-409, that the June 24, 2025 meeting of the Judges Panel may be closed to the public in accordance with 5 U.S.C. 552b(c)(4) because the meeting is likely to disclose trade secrets and commercial or financial information obtained from a person and are privileged or confidential, and 5 U.S.C. 552b(c)(9)(B) because the meeting is likely to disclose information the premature disclosure of which would be likely to significantly frustrate implementation of a proposed agency action. This meeting is closed to the public in order to protect the proprietary data to be examined and discussed.

Meeting Cancellation

If the meeting is canceled, a cancellation notice will be posted on the website at: https://www.nist.gov/baldrige/how-baldrige-works/baldrige-community/judges-panel.

Alicia Chambers,
NIST Executive Secretariat.

[FR Doc. 2025-10473 Filed 6-9-25; 8:45 am]

BILLING CODE 3510-13-P